FARM CREDIT ADMINISTRATION

Farm Credit Administration Board; Amendment to Sunshine Act Meeting

AGENCY: Farm Credit Administration.

SUMMARY: Pursuant to the Government in the Sunshine Act (5 U.S.C. 552b(e)(3)), the Farm Credit Administration gave notice on January 10, 2000 (65 FR 1389) of the regular meeting of the Farm Credit Administration Board (Board) scheduled for January 13, 2000. We then gave notice on January 12, 2000 (65 FR 1892) of the regular meeting cancellation and scheduling of a special meeting on January 27, 2000. This notice is to amend the original agenda for the upcoming special meeting.

DATE AND TIME: The special meeting of the Board will be held at the offices of the Farm Credit Administration in McLean, Virginia, on January 27, 2000, from 9:00 a.m. until such time as the Board concludes its business.

FOR FURTHER INFORMATION CONTACT: Vivian L. Portis, Secretary to the Farm Credit Administration Board, (703) 883-4025, TDD (703) 883-4444.

ADDRESSES: Farm Credit Administration, 1501 Farm Credit Drive, McLean, Virginia 22102-5090.

SUPPLEMENTARY INFORMATION: This meeting of the Board is open to the public (limited space available). In order to increase the accessibility to Board meetings, persons requiring assistance should make arrangements in advance. The agenda for January 27, 2000, is amended to read as follows:

OPEN SESSION

A. Approval of Minutes

—December 9, 1999 (Open and Closed)

B. Reports

1. Farm Credit Administration's Y2K Status Report

2. Y2K Status Report (Systemwide Level)

C. New Business

Regulations

—Termination of Farm Credit Status-Proposed Rule; Supplemental and Extension of comment period (12 CFR Part 611)

Dated: January 21, 2000.
Vivian L. Portis,
Secretary, Farm Credit Administration.

[FR Doc. 00-1833 Filed 1-21-00; 2:36 pm]

BILLING CODE 6705-01-P